DEPARTMENT OF JUSTICE

Antitrust Division

Notice Pursuant to the National Cooperative Research and Production Act of 1993—Steel Tank Institute

Notice is hereby given that, on September 16, 2004, pursuant to section 6(a) of the National Cooperative Research and Production Act of 1993, 15 U.S.C. 4301 et seq. (“the Act”), Steel Tank Institute (“STI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Steel Tank Institute, Lake Zurich, IL. The nature and scope of STI's standards development activities are: To develop, promulgate and publish voluntary consensus standards, recommended practices and installation guidelines for the manufacture, installation, testing and inspection of underground and aboveground shop-fabricated steel storage tanks. STI standards ensure that underground and aboveground shop-fabricated steel storage tanks meet standards for safety and reliability so that users and other members of the public are assured that such tanks are properly manufactured, installed, tested and inspected. STI's voluntary consensus standards are developed by STI members and other interested parties who wish to participate in the process.

Additional information concerning STI can be obtained from Wayne Geyer, Executive Director, STI, at (847) 438-8265 (ext. 234).

Dorothy B. Fountain,
Deputy Director of Operations, Antitrust Division.

[FR Doc. 04-25847 Filed 11-19-04; 8:45 am]

BILLING CODE 4410-11-M